FEDERAL COMMUNICATIONS COMMISSION

47 CFR Part 73

[DA 01-1185; MM Docket No. 99-246; RM-9593; RM-9770]

Radio Broadcasting Services; Winslow and Mayer, AZ

AGENCY: Federal Communications Commission.

ACTION: Final rule; petition for reconsideration.

SUMMARY: This document denies a Petition for Partial Reconsideration filed on behalf of Desert West Air Ranchers Corporation directed to the Report and Order in this proceeding reallotting Channel 236C from Winslow to Mayer, Arizona, as optionally proposed, as that community's first local aural transmission service (RM-9770), in lieu of previously proposed Camp Verde, Arizona (RM-9593), and modifying the license for Station KFMR(FM) accordingly. See 65 FR 36374, June 8, 2000. Desert West objects to the dismissal of its alternate proposal to allot Channel 236C to Sun City West, Arizona (RM-9770), and the selection of Mayer as its community of license. The petition for partial reconsideration is denied as it does not meet the limited provisions set forth in the Commission's Rules under which a rule making action will be reconsidered. This document also announces that we will no longer be considering optional or alternative proposals by a single party in a single rulemaking proceeding. With this action, this docketed proceeding is terminated.

FOR FURTHER INFORMATION CONTACT: Nancy Joyner, Mass Media Bureau, (202) 418-2180.

SUPPLEMENTARY INFORMATION: This is a synopsis of the Commission's Memorandum Opinion and Order, in MM Docket No. 99-246, adopted May 2, 2001, and released May 11, 2001. The full text of this Commission decision is available for inspection and copying during normal business hours in the FCC Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 01-13453 Filed 5-29-01; 8:45 am]

BILLING CODE 6712-01-P